DEPARTMENT OF THE INTERIOR

National Park Service

Notice of Intent to Repatriate a Cultural Item: Berkshire Museum, Pittsfield, MA

AGENCY: National Park Service, Interior.

ACTION: Notice.

Notice is here given in accordance with the Native American Graves Protection and Repatriation Act (NAGPRA), 25 U.S.C. 3005, of the intent to repatriate a cultural item in the possession of the Berkshire Museum, Pittsfield, MA, that meets the definition of “sacred object” and “cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The cultural item is a clay pipe bowl. The 4-inch x 1.25-inch pipe bowl is a brown-gray ceramic cylindrical tube with a tapered end and bent at a 120 degree angle 1 inch from the flared end; both ends of the pipe are chipped, revealing dark gray ceramic material with flecks of white temper. It was excavated in 1863 from an unknown site in Pittsfield, Berkshire County, MA, by S.L. Werden and given to the Berkshire Museum on an unknown date. It was found in the collection in 1992. Tribal representatives identified the clay pipe bowl as an instrument belonging to the Stockbridge-Munsee Band of Mohican Indians (now known as the Stockbridge-Munsee Community, Wisconsin). The bowl has been dated to the Late Woodland period (circa A.D. 1000-1580).

Representatives of the Stockbridge-Munsee Community, Wisconsin indicated during consultation that this cultural item is a specific ceremonial object needed for the continuation of traditions and rituals within the tribe. Throughout Mohican Indian history, pipe bowls of this type have been used to seal peace treaties between rival groups, as religious offerings to higher spirits, and as funerary gifts to the deceased.

Officials of the Berkshire Museum have determined that, pursuant to 25 U.S.C. 3001 (3)(C), the cultural item is a specific ceremonial object needed by traditional Native American religious leaders for the practice of traditional Native American religions by their present-day adherents, and that, pursuant to 25 U.S.C. 3001 (3)(D), the cultural item has ongoing historical, traditional or cultural importance central to the Native American group or culture itself, rather than property owned by an individual. Officials of the Berkshire Museum also have determined that, pursuant to 25 U.S. C. 3001 (2), there is a relationship of shared group identity that can be reasonably traced between the sacred object/cultural patrimony and the Stockbridge-Munsee Community, Wisconsin.

Representatives of any other Indian tribe that believes itself to be culturally affiliated with the sacred object/cultural patrimony should contact Nezka Pfeifer, Collections Manager, Berkshire Museum, 39 South Street, Pittsfield, MA 01201, telephone (413) 443-7171, before July 1, 2005. Repatriation of the sacred object/cultural patrimony to the Stockbridge-Munsee Community, Wisconsin may proceed after that date if no additional claimants come forward.

The Berkshire Museum is responsible for notifying the Stockbridge-Munsee Community, Wisconsin that this notice has been published.

Dated: May 20, 2005.
Paul Hoffman,
Deputy Assistant Secretary, Fish and Wildlife and Parks.

[FR Doc. 05-10806 Filed 5-31-05; 8:45 am]

BILLING CODE 4312-50-S